DEPARTMENT OF JUSTICE

Notice of Lodging of Consent Decree Under the Comprehensive Environmental Response, Compensation, and Liability Act

AGENCY: Notice is hereby given that on March 12, 2002, a proposed Consent Decree in United States v. A-L Processors, f.k.a. Atlas-Lederer Co., et al., Civil Action No. C-3-91-309, was lodged with the United States District Court for the Southern District of Ohio.

In this action the United States seeks the reimbursement of response costs in connection with the United Scrap Lead Superfund Site in Troy, Miami County, Ohio (“Site”) pursuant to the Comprehensive Environmental Response, Compensation and Liability Act (“CERCLA”), 42 U.S.C. 9601 et seq. The Consent Decree resolves the United State' claims against defendants Beckner Iron & Metal, Decatur Salvage Inc., Ebner & Sons Co., Inc., Mid-Ohio Battery Inc., the Ohio Department of Transportation, and United Salvage Co., Inc., for response costs incurred as a result of the release or threatened release of hazardous substances at the Site. Five of these settlements are “ability-to-pay” settlements based on financial analyses conducted by the Department's Antitrust Corporate Finance Unit. One settlement, with the Ohio Department of Transportation (“ODOT”), was agreed to in principle in early 2000 based on ODOT's relative contribution of waste to the Site, but could not be finalized in time for inclusion in a prior Consent Decree executed in April 2000. The six settling parties collectively will pay the United States $93,595. The United States' remaining outstanding costs exceed $8,500,000 and are being sought from the eleven remaining defendants in this case.

The Consent Decree also resolves the United Scrap Lead Respondent Group's (“Respondent Group”) CERCLA claims against the same parties for response costs incurred by the Respondent Group in cleaning up the Site under an earlier Consent Decree. The settling parties will pay the Respondent Group a total of $64,247.

The Department of Justice will receive for a period of thirty (30) days from the date of this publication comments relating to the Consent Decree. Comments should be addressed to the Assistant Attorney General of the Environment and Natural Resources Division, Department of Justice, PO Box 7611, Washington, DC 20044, and should refer to United States v. A-L Processors, f.k.a. Atlas-Lederer Co., et al., D.J. Ref. 90-11-3-279B.

The Consent Decree may be examined at the Office of the United States Attorney, Southern District of Ohio, Federal Building Room 602,200 West Second Street, Dayton, Ohio, or at the Region 5 Office of the Environmental Protection Agency, 77 West Jackson Street, Chicago, Illinois 60606-3590. A copy of the proposed Consent Decree may also be obtained in person or by mail from the Consent Decree Library, 1425 New York Ave, NW., Washington, DC 20044-7611, or by faxing Tonia Fleetwood at (202) 616-6584. In requesting a copy, please enclose a check in the amount of $6.75 (27 pages at 25 cents per page reproduction cost) payable to the Consent Decree Library.

Bruce Gelber,
Chief, Environmental Enforcement Section, Environment and Natural Resources Division.

[FR Doc. 02-8739 Filed 4-10-02; 8:45 am]

BILLING CODE 4410-15-M